DEPARTMENT OF ENERGY

Federal Energy Regulatory Commission

[Docket No. EL07-52-000 et al.]

Louisiana Public Service Commission v. Entergy Services, Inc., et al.; Notice of FERC Staff Attendance at Southwest Power Pool Independent Coordinator of Transmission (ICT) Stakeholder Policy Committee Meeting

January 8, 2009.

The Federal Energy Regulatory Commission hereby gives notice that members of its staff may attend the meeting noted below. Their attendance is part of the Commission's ongoing outreach efforts.

ICT Stakeholder Policy Committee Meeting

January 28, 2009 (9 a.m.-3 p.m.) , DFW Hyatt Regency, DFW Airport, Grapevine, TX 75261.

The discussions may address matters at issue in the following proceedings:

Docket No. EL07-52 | Louisiana Public Service Commission v. Entergy Services, Inc.
Docket No. OA07-32 | Entergy Services, Inc.
Docket No. ER05-1065 | Entergy Services, Inc.
Docket No. EL00-66 | Louisiana Public Service Commission v. Entergy.
Docket No. EL05-15 | Arkansas Electric Cooperative, Corp. v. Entergy Arkansas, Inc.
Docket No. ER08-844 | Entergy Services, Inc.
Docket No. EL01-88 | Louisiana Public Service Commission v. Entergy.
Docket No. EL08-59 | ConocoPhillips v. Entergy Services, Inc.
Docket No. EL08-60 | Union Electric v. Entergy Services, Inc.
Docket No. OA08-92 | Entergy Services, Inc.
Docket No. OA08-75 | Entergy Services, Inc.
Docket No. ER07-1252 | Entergy Services, Inc.
Docket No. ER08-774 | Entergy Services, Inc.
Docket No. ER08-1006 | Entergy Services, Inc.
Docket No. ER08-1056 | Entergy Services, Inc.
Docket No. ER08-1057 | Entergy Services, Inc.
Docket No. ER07-682 | Entergy Services. Inc.
Docket No. EL08-72 | NRG Energy, Inc. v. Entergy Services, Inc.
Docket No. EL08-84 | AEEC v. Entergy Services, Inc.
Docket No. ER08-513 | Entergy Services, Inc.
Docket No. OA08-149 | Entergy Operating Companies.
Docket No. ER08-767 | Entergy Services, Inc.
Docket No. OA08-59 | Entergy Services, Inc.
Docket No. ER07-956 | Entergy Services, Inc.
Docket No. EL08-91 | AEEC v. Entergy Services, Inc.
Docket No. ER09-372 | Entergy Services, Inc.
Docket No. ER09-435 | Entergy Services, Inc.
Docket No. ER09-448 | Entergy Services, Inc.
Docket No. ER09-449 | Entergy Services, Inc.

These meetings are open to the public.

For more information, contact Patrick Clarey, Office of Energy Market Regulation, Federal Energy Regulatory Commission at (317) 249-5937 or patrick.clarey@ferc.gov.

Kimberly D. Bose,
Secretary.

D

[FR Doc. E9-704 Filed 1-14-09; 8:45 am]

BILLING CODE 6717-01-P